NUCLEAR REGULATORY COMMISSION

Reactor Oversight Process Initial Implementation Evaluation Panel; Meeting Notice

Pursuant to the Federal Advisory Committee Act of October 6, 1972 (Pub. L. 94-463, Stat. 770-776) the U.S. Nuclear Regulatory Commission (NRC), on October 2, 2000, announced the establishment of the Reactor Oversight Process Initial Implementation Evaluation Panel (IIEP). The IIEP functions as a cross-disciplinary oversight group to independently monitor and evaluate the results of the first year of implementation of the Reactor Oversight Process (ROP). A Charter governing the IIEP functions as a Federal Advisory Committee was filed with Congress on October 17, 2000, after consultation with the Committee Management Secretariat, General Services Administration. The IIEP will hold its second meeting on December 11-12, 2000, at the U.S. Nuclear Regulatory Commission's Region II Office in Atlanta, Georgia. The Region II Office is located in the Sam Nunn Atlanta Federal Center, 24T20, 61 Forsyth Street, SW, Atlanta, Georgia 30303-8931.

The IIEP meeting participants are listed below along with their affiliation:

A. Randolph Blough—U.S. Nuclear Regulatory Commission

R. William Borchardt—U.S. Nuclear Regulatory Commission

Kenneth Brockman—U.S. Nuclear Regulatory Commission

Steve Floyd—Nuclear Energy Institute

David Garchow—PSEG Nuclear LLC

Richard Hill—Southern Nuclear Operating Company

Rod Krich—Commonwealth Edison Company

Robert Laurie—California Energy Commission

James Moorman, III—U.S. Nuclear Regulatory Commission

Loren Plisco—U.S. Nuclear Regulatory Commission

Steven Reynolds—U.S. Nuclear Regulatory Commission

A. Edward Scherer—Southern California Edison Company

James Setser—Georgia Department of Natural Resources

James Trapp—U.S. Nuclear Regulatory Commission

A tentative agenda of the meeting is outlined as follows:

December 11, 2000 Meeting

8:00 am—Introduction/Meeting Objectives and Goals.

8:15 am—Review of Meeting Minutes and Action Items from November 1-2, 2000 Meeting.

8:30 am—Presentation of Results from Regional Workshops.

—Summary of meetings from staff.

—Summary of meeting issues from IIEP members.

—Summary of issues from site public meetings from IIEP members.

10:00 am—Presentation of Summary of ROP Issues Collected from IIEP Members.

12:00 pm—Lunch.

1:00 pm—Panel Discussion of Issues and Prioritization.

3:00 pm—Work Planning and Report Outline Development.

5:00 pm—Adjourn.

December 12, 2000 Meeting

8:00 am—Recap of Previous Day's Meeting/Meeting Objectives and Goals.

8:30 am—Presentation of Stakeholder Issues/Views.

12:00 pm—Lunch.

1:00 pm—Panel Discussion of Stakeholder Issues/Views.

3:00 pm—Agenda Planning for January Meeting.

—Schedule March Meeting dates.

4:00 pm—Public Comments/General Discussion.

5:00 pm—Adjourn.

Meetings of the IIEP are open to the members of the public. Oral or written views may be presented by the members of the public, including members of the nuclear industry. Persons desiring to make oral statements should notify Mr. Loren R. Plisco (Telephone 404/562-4501, e-mail LRP@nrc.gov) or Mr. John D. Monninger (Telephone 301/415-3495, e-mail JDM@nrc.gov) five days prior to the meeting date, if possible, so that appropriate arrangements can be made to allow necessary time during the meeting for such statements. Use of still, motion picture, and television cameras will be permitted during this meeting.

Further information regarding topics of discussion; whether the meeting has been canceled, rescheduled, or relocated; and the Panel Chairman's ruling regarding requests to present oral statements and time allotted, may be obtained by contacting Mr. Loren R. Plisco or Mr. John D. Monninger between 8:00 a.m. and 4:30 p.m. EST.

IIEP meeting transcripts and meeting reports will be available from the Commission's Public Document Room. Transcripts will be placed on the agency's web page.

Dated: November 22, 2000.
Andrew Bates,
Advisory Committee Management Officer.

[FR Doc. 00-30432 Filed 11-28-00; 8:45 am]

BILLING CODE 7590-01-P